DEPARTMENT OF COMMERCE

National Institute of Standards and Technology

Malcolm Baldrige National Quality Award Panel of Judges

AGENCY: National Institute of Standards and Technology, Department of Commerce.

ACTION: Notice of closed meeting.

SUMMARY: Pursuant to the Federal Advisory Committee Act, 5 U.S.C. app., notice is hereby given that there will be a meeting of the Panel of Judges of the Malcolm Baldrige National Quality Award on Wednesday, June 13, 2012. The Panel of Judges is composed of twelve members prominent in the fields of quality, innovation, and performance management and appointed by the Secretary of Commerce, assembled to ensure the integrity of the Baldrige Award selection process. The purpose of this meeting is to discuss and review information received from the National Institute of Standards and Technology and from the Chair of the Judges Panel of the Malcolm Baldrige National Quality Award. The agenda will include: Overview of the Role of the Judges and Scoring Data Reviewed at the September 2011 Meeting, 2012 Baldrige Award Cycle, Conflict of Interest, Judges' Survey of Applicants, Judging Process Improvement Discussion and Judges' Mentoring Program, and a Baldrige Program Update.

DATES: The meeting will convene on Wednesday, June 13, 2012, at 9:00 a.m. Eastern time and adjourn at 4:00 p.m. Eastern time. The entire meeting will be closed.

ADDRESSES: The meeting will be held at the National Institute of Standards and Technology, Administration Building, Lecture Room E, Gaithersburg, Maryland 20899.

FOR FURTHER INFORMATION CONTACT: Dr. Harry Hertz, Director, Baldrige Performance Excellence Program, National Institute of Standards and Technology, Gaithersburg, Maryland 20899, telephone number (301) 975-2361.

SUPPLEMENTARY INFORMATION: The Assistant Secretary for Administration, with the concurrence of the General Counsel, formally determined on March 7, 2011, that the meeting of the Judges Panel may be closed in accordance with 5 U.S.C. 552b(c)(4) because the meeting is likely to disclose trade secrets and commercial or financial information obtained from a person which is privileged or confidential and 5 U.S.C. 552b(c)(9)(B) because for a government agency the meetings are likely to disclose information that could significantly frustrate implementation of a proposed agency action. The meeting, which involves examination of Award applicant data from U.S. companies and other organizations and a discussion of these data as compared to the Award criteria in order to recommend Award recipients, will be closed to the public.

Dated: April 24, 2012.
Phillip Singerman,
Associate Director for Innovation & Industry Services.

[FR Doc. 2012-10438 Filed 4-30-12; 8:45 am]

BILLING CODE 3510-13-P